DEPARTMENT OF TRANSPORTATION

Surface Transportation Board

[STB Finance Docket No. 35257]

Progressive Rail, Incorporated—Acquisition Exemption—Rail Lines of Wisconsin Central, Ltd.

Progressive Rail, Incorporated (PGR), a Class III rail carrier, has filed a verified notice of exemption under 49 CFR 1150.41 to acquire 23.97 miles of railroad from Wisconsin Central, Ltd. (WCL).¹ One line that PGR is acquiring, the Almena-Cameron Branch, extends between milepost 80.88, at or near Almena and milepost 97.80, at or near Cameron, a distance of 16.92 miles. The other, the Rice Lake-Cameron Branch, extends between Milepost 49.0, at or near Cameron, and milepost 56.05, at or near Rice Lake, a distance of 7.05 miles. Both lines are located in Barron County, WI.²

¹ PGR currently operates the lines under a lease from WCL. See Progressive Rail, Incorporated—Lease and Operation Exemption—Rail Lines of Wisconsin Central, Ltd., STB Finance Docket No. 34600 (STB served Nov. 12, 2004).

² Following the consummation of this transaction, PGR states that it plans to convey the right-of-way and rail assets to the Wisconsin Department of Transportation. PGR will retain the common carrier obligation. PGR acknowledges that Board authority is required for these transactions.

The proposed transaction is scheduled to be consummated on or after October 11, 2009.

PGR certifies that its projected annual revenues as a result of this transaction will not result in the creation of a Class II or Class I rail carrier. However, because its projected annual revenues will exceed $5 million, PGR also has certified to the Board that it has complied with the employee notice requirements of 49 CFR 1150.42(e). Pursuant to that provision, the exemption may not become effective until 60 days from the August 12, 2009 date of the revised certification to the Board, which would be October 11, 2009.

If the notice contains false or misleading information, the exemption is void ab initio. Petitions to revoke the exemption under 49 U.S.C. 10502(d) may be filed at any time. The filing of a petition to revoke will not automatically stay the transaction. Petitions for stay must be filed no later than October 2, 2009 (at least 7 days before the exemption becomes effective).

Pursuant to the Consolidated Appropriations Act, 2008, Public Law 110-161, section 193, 121 Stat. 1844 (2007), nothing in this decision authorizes the following activities at any solid waste rail transfer facility: Collecting, storing or transferring solid waste outside of its original shipping container; or separating or processing solid waste (including baling, crushing, compacting and shredding). The term “solid waste” is defined in section 1004 of the Solid Waste Disposal Act, 42 U.S.C. 6903.

An original and 10 copies of all pleadings, referring to STB Finance Docket No. 35257, must be filed with the Surface Transportation Board, 395 E Street, SW., Washington, DC 20423-0001. In addition, one copy of each pleading must be served on James H. M. Savage, John D. Heffner, PLLC, 1750 K Street, NW., Suite 200, Washington, DC 20006.

Board decisions and notices are available on our Web site at http://www.stb.dot.gov.

Decided: August 24, 2009.
By the Board, Joseph H. Dettmar, Acting Director, Office of Proceedings.
Kulunie L. Cannon,
Clearance Clerk.

[FR Doc. E9-20748 Filed 8-27-09; 8:45 am]

BILLING CODE 4915-01-P